DEPARTMENT OF ENERGY

Federal Energy Regulatory Commission

18 CFR Part 292

[Docket No. RM06-10-000]

New PURPA Section 210(m) Regulations Applicable to Small Power Production and Cogeneration Facilities; Correction

AGENCY: Federal Energy Regulatory Commission, DOE.

ACTION: Final rule; correction.

SUMMARY: This document corrects errors in a final rule that the Federal Energy Regulatory Commission (Commission) published in the Federal Register on November 1, 2006. That action amended the Commission's regulations governing small power production and cogeneration in response to section 1253 of the Energy Policy Act of 2005.

DATES: These corrections are effective January 2, 2007.

FOR FURTHER INFORMATION CONTACT: Samuel Higginbottom (Legal Information), Office of the General Counsel, Federal Energy Regulatory Commission, at (202) 502-8561.

SUPPLEMENTARY INFORMATION: In FR Document 06-8928, published November 1, 2006 (71 FR 64342), make the following corrections:

On page 64372, column 2, in § 292.303(c)(1), in the last sentence, after “interconnection” add “costs”. The sentence is corrected to read: “The obligation to pay for any interconnection costs shall be determined in accordance with § 292.306.

On page 64372, column 2, in “§ 292.303(d), in the first sentence, after “purchase energy”, remove “and” and add in its place “or”. Sentence is corrected to read : “If a qualifying facility agrees, an electric utility which would otherwise be obligated to purchase energy or capacity from such qualifying facility may transmit energy or capacity to any other electric utility”.

On page 64373, column 1, in § 292.309(f)(2), in the last sentence after “facility ouput or” add the word “capacity”. Sentence is corrected to read: “The qualifying facility may show that it is located in an area where persistent transmission constraints in effect cause the qualifying facility not to have access to markets outside a persistently congested area to sell the qualifying facility output or capacity”.

On page 64374, second column, in § 292.312(b), after, “an existing qualifying cogeneration” remove “qualifying”. The sentence is corrected to read: “After August 8, 2005, an electric utility shall not be required to enter into a new contract or obligation to sell electric energy to a qualifying small power production facility, an existing qualifying cogeneration facility, or a new qualifying cogeneration facility if the Commission has found that;”

Magalie R. Salas,
Secretary.

[FR Doc. E6-21433 Filed 12-15-06; 8:45 am]

BILLING CODE 6717-01-P